DEPARTMENT OF HEALTH AND HUMAN SERVICES

Centers for Disease Control and Prevention

[30Day-07-05AT]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4604 or send an e-mail to omb@cdc.gov. Send written comments to CDC Desk Officer, Office of Management and Budget, Washington, DC or by fax to (202) 395-6974. Written comments should be received within 30 days of this notice.

Proposed Project

A Site Specific Modular Evaluation Instrument for Behavior Outcome Measurement—New—Agency for Toxic Substances and Disease Registry (ATSDR), Centers for Disease Control and Prevention (CDC).

Background and Brief Description

ATSDR considers evaluation to be a critical component for enhancing program effectiveness and improving resource management. ATSDR's mandate under the Comprehensive Environmental Response, Compensation, and Liability Act (CERLCA), as amended, is to help prevent or reduce further exposures at hazardous waste sites and the illnesses that result from such exposures. A standardized methodology to monitor outcomes associated with agency intervention will provide the data needed for demonstrating effectiveness and efficiency as well as identifying areas for improvement.

ATSDR, in cooperation with our cooperative agreement partners, is developing a series of survey modules designed to measure individual attitudes, knowledge and behaviors, as well as mental and physical health self-assessments, that may be influenced by health education and health promotion efforts conducted by the agency at hazardous waste sites. These modules will be used to determine knowledge improvements, attitude shifts, and behavior change following specific ATSDR program efforts and activities. The particular module or combination of modules(s) used at a site will vary depending on the contaminant(s) of concern and education/health promotion actions undertaken. In addition, the timing of the data collection will vary depending on whether this is a new site or one that has been underway for some time. In general, for new sites or existing sites with new intervention efforts, we would aim for two data collections, baseline and post-intervention. At existing sites where ATSDR interventions have been completed, we would collect data once, post-intervention.

Health education and promotion activities are conducted at approximately 250 sites annually. We estimate that 90% will have total exposed or potentially exposed populations of 10,000 or less, and we expect to survey up to 150 respondents at each site. At sites with exposed or potentially exposed populations of more than 10,000, we expect to survey up to 500 respondents at each site.

Using a standardized methodology and survey instrument to assess outcomes related to targeted intervention activities at hazardous waste sites will provide the agency with important feedback for program improvement. There will be no costs to respondents except for their time to participate in the survey. The total estimated annualized burden hours are 27,250.

Estimated Annualized Burden Hours:

Type of respondents | Number of sites | Number of respondents | Number of responses per respondent | Average burden per response (in hours)
General Public at Existing Sites with Exposed Populations of 10,000 or Less | 55 | 150 | 1 | 20/60
General Public at Existing Sites with New Interventions or New Sites with Exposed Populations of 10,000 or Less | 170 | 150 | 2 | 20/60
General Public at Existing Sites with Exposed Populations of 10,000 or More | 5 | 500 | 1 | 20/60
General Public at Existing Sites with New Interventions or New Sites with Exposed Populations of 10,000 or More | 20 | 500 | 2 | 20/60

Dated: June 14, 2007.
Catina Conner,
Acting Assistant Reports Clearance Officer,Centers for Disease Control and Prevention.

[FR Doc. E7-11936 Filed 6-19-07; 8:45 am]

BILLING CODE 4163-18-P